NUCLEAR REGULATORY COMMISSION

[NRC-2019-0001]

Sunshine Act Meetings

TIME AND DATE: Weeks of June 17, 24, July 1, 8, 15, 22, 2019.

PLACE: Commissioners' Conference Room, 11555 Rockville Pike, Rockville, Maryland.

STATUS: Public and Closed.

MATTERS TO BE CONSIDERED:

Week of June 17, 2019

Tuesday, June 18, 2019

10:00 a.m.—Briefing on Human Capital and Equal Employment Opportunity (Public Meeting) (Contact: Jason Lising: 301-287-0569)

This meeting will be webcast live at the web address— http://www.nrc.gov/.

Thursday, June 20, 2019

10:00 a.m. Briefing on Results of the Agency Action Review Meeting (Public Meeting) (Contact: Andrea Mayer: 301-415-1081)

This meeting will be webcast live at the Web address— http://www.nrc.gov/.

Week of June 24, 2019—Tentative

There are no meetings scheduled for the week of June 24, 2019.

Week of July 1, 2019—Tentative

There are no meetings scheduled for the week of July 1, 2019.

Week of July 8, 2019—Tentative

There are no meetings scheduled for the week of July 8, 2019.

Week of July 15, 2019—Tentative

There are no meetings scheduled for the week of July 15, 2019.

Week of July 22, 2019—Tentative

There are no meetings scheduled for the week of July 22, 2019.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings or need this meeting notice or the transcript or other information from the public meetings in another format (e.g., Braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov.

Dated at Rockville, Maryland, this 13th day of June 2019.
For the Nuclear Regulatory Commission.
Denise L. McGovern,
Policy Coordinator, Office of the Secretary.

[FR Doc. 2019-12822 Filed 6-13-19; 4:15 pm]

BILLING CODE 7590-01-P